DEPARTMENT OF LABOR

Office of Workers' Compensation Programs

[OMB Control No. 1240-0002]

Comment Request; Energy Employees Occupational Illness Compensation Program Act Forms EE-1, EE-1-SPA EE-2, EE-2-SPA, EE-3, EE-3-SPA, EE-4, EE-4-SPA, Form EE-5, EE-7, EE-7-SPA, EE/EN-8, EE/EN-9, EE/EN-10, EE/EN-12, EE/EN-13, EE/EN-16, EE-17A, EE-17B AND EE/EN-20

AGENCY: Office of Workers' Compensation Programs, Division of Energy Employees Occupational Illness Compensation (OWCP/DEEOIC), Labor.

ACTION: Request for public comments.

SUMMARY: The Department of Labor, as part of its continuing effort to reduce paperwork and respondent burden, conducts a preclearance consultation program to provide the general public and Federal agencies with an opportunity to comment on proposed and/or continuing collections of information in accordance with the Paperwork Reduction Act of 1995. This request helps to ensure that requested data can be provided in the desired format; reporting burden (time and financial resources) is minimized; collection instruments are clearly understood; and the impact of collection requirements on respondents can be properly assessed. Currently, the OWCP/DEEOIC is soliciting comments concerning the collection for Energy Employees Occupational Illness Compensation Program Act Forms (EE-1, EE-1-SPA EE-2, EE-2-SPA, EE-3, EE-3-SPA, EE-4, EE-4-SPA, Form EE-5, EE-7, EE-7-SPA, EE/EN-8, EE/EN-9, EE/EN-10, EE/EN-12, EE/EN-13, EE/EN-16, EE-17A, EE-17B AND EE/EN-20).

DATES: Consideration will be given to all written comments received on or before January 13, 2025.

ADDRESSES: You may submit comments as follows. Please note that late, untimely filed comments will not be considered.

Electronic Submissions: Submit electronic comments in the following way:

• Federal eRulemaking Portal: https://www.regulations.gov. Follow the instructions for submitting comments for WCPO-2024-0020. Comments submitted electronically, including attachments, to https://www.regulations.gov will be posted to the docket, with no changes. Because your comment will be made public, you are responsible for ensuring that your comment does not include any confidential information that you or a third party may not wish to be posted, such as your or anyone else's Social Security number or confidential business information.

• If your comment includes confidential information that you do not wish to be made available to the public, submit the comment as a written/paper submission.

Written/Paper Submissions: Submit written/paper submissions in the following way:

• Mail/Hand Delivery: Mail or visit U.S. DOL-Office of Workers' Compensation Programs, OWCP, Room C-3510, 200 Constitution Avenue NW, Washington, DC 20210;

• OWCP will post your comment as well as any attachments, except for information submitted and marked as confidential, in the docket at https://www.regulations.gov.

FOR FURTHER INFORMATION CONTACT: Ms. Anjanette Suggs, Office of Workers' Compensation Programs, OWCP at suggs.anjanette@dol.gov (email); (202) 354-9660 (voice).

SUPPLEMENTARY INFORMATION:

I. Background

The Office of Workers' Compensation Programs (OWCP) is the primary agency responsible for the administration of the Energy Employees Occupational Illness Compensation Program Act of 2000, as amended (EEOICPA or Act), 42 U.S.C. 7384. The Act provides for timely payment of compensation to covered employees and, where applicable, survivors of such employees, who sustained either “occupational illnesses” or “covered illnesses” incurred in the performance of duty for the Department of Energy and certain of its contractors and subcontractors. The Act sets forth eligibility criteria for claimants for compensation under Part B and Part E of the Act and outlines the various elements of compensation payable from the Fund established by the Act. The information collections in this ICR collect demographic, factual and medical information needed to determine entitlement to benefits under the EEOICPA.

II. Desired Focus of Comments

OWCP is soliciting comments concerning the information collection related to Energy Employees Occupational Illness Compensation Program Act Forms. OWCP is particularly interested in comments that:

• Evaluate whether the proposed collection of information is necessary for the proper performance of the functions of the Agency, including whether the information has practical utility;

• Evaluate the accuracy of OWCP's estimate of the burden of the proposed collection of information, including the validity of the methodology and assumptions used;

• Suggest methods to enhance the quality, utility and clarity of the information to be collected; and

• Minimize the burden of the collection of information on those who are to respond, including through the use of appropriate automated, electronic, mechanical, or other technological collection techniques or other forms of information technology, e.g., permitting electronic submissions of responses.

Background documents related to this information collection request are available at https://regulations.gov and at DOL-OWCP located at U.S. Department of Labor, Office of Workers' Compensation Programs, Room C-3510, 200 Constitution Avenue NW, Washington, DC 20210. Questions about the information collection requirements may be directed to the person listed in the FOR FURTHER INFORMATION CONTACT section of this notice.

III. Current Actions

This information collection request concerns Energy Employees Occupational Illness Compensation Program Act Forms EE-1, EE-1-SPA EE-2, EE-2-SPA, EE-3, EE-3-SPA, EE-4, EE-4-SPA, Form EE-5, EE-7, EE-7-SPA, EE/EN-8, EE/EN-9, EE/EN-10, EE/EN-12, EE/EN-13, EE/EN-16, EE-17A, EE-17B AND EE/EN-20.

Type of Review: Extension.

Agency: DOL-Office of Workers' Compensation Programs.

OMB Number: 1240-0002.

Affected Public: Individuals or households; Business or other for-profit.

Number of Respondents: 109,717.

Number of Responses: 109,717.

Annual Burden Hours: 33,969.

Annual Respondent or Recordkeeper Cost: $731,605.59.

OWCP Forms: EE-1, EE-1-SPA EE-2, EE-2-SPA, EE-3, EE-3-SPA, EE-4, EE-4-SPA, Form EE-5, EE-7, EE-7-SPA, EE/EN-8, EE/EN-9, EE/EN-10, EE/EN-12, EE/EN-13, EE/EN-16, EE-17A, EE-17B AND EE/EN-20, Energy Employees Occupational Illness Compensation Program Act Forms.

Comments submitted in response to this notice will be summarized in the request for Office of Management and Budget approval of the proposed information collection request; they will become a matter of public record and will be available at https://www.reginfo.gov.

Anjanette Suggs,
Certifying Officer.

[FR Doc. 2024-26530 Filed 11-13-24; 8:45 am]

BILLING CODE 4510-CR-P